DEPARTMENT OF AGRICULTURE

Grain Inspection, Packers and Stockyards Administration

[05-AZ-S]

Designation for the Southwest Arizona Area

AGENCY: Grain Inspection, Packers and Stockyards Administration, USDA.

ACTION: Notice.

SUMMARY: Grain Inspection, Packers and Stockyards Administration (GIPSA) announces designation of Farwell Commodity and Grain Services, Inc. (Farwell Southwest) to provide official services under the United States Grain Standards Act, as amended (Act).

DATES: Effective Date: April 1, 2005.

ADDRESSES: USDA, GIPSA, Janet M. Hart, Chief, Review Branch, Compliance Division, STOP 3604, Room 1647-S, 1400 Independence Avenue, SW., Washington, DC 20250-3604.

FOR FURTHER INFORMATION CONTACT: Janet M. Hart at (202) 720-8525, e-mail Janet.M.Hart@usda.gov.

SUPPLEMENTARY INFORMATION: This action has been reviewed and determined not to be a rule or regulation as defined in Executive Order 12866 and Departmental Regulation 1512-1; therefore, the Executive Order and Departmental Regulation do not apply to this action.

In the December 8, 2004, Federal Register (69 FR 70993) GIPSA asked persons interested in providing official services in Maricopa, Pinal, Santa Cruz, and Yuma Counties, Arizona, to submit an application for designation. Applications were due by January 7, 2005.

There was one applicant for the Southwest Arizona area. Richard Dan Prince, proposing to do business as Farwell Commodity and Grain Services, Inc., applied for designation in the entire area named in the December 8, 2004, Federal Register.

GIPSA asked for comments on Farwell Southwest in the February 8, 2005, Federal Register (70 FR 6612). Comments were due by March 10, 2005. GIPSA received no comments by the closing date.

GIPSA evaluated all available information regarding the designation criteria in Section 7(f)(l)(A) of the Act and, according to section 7(f)(l)(B), determined that Farwell Southwest is able to provide official services in the geographic areas specified in the December 8, 2004, Federal Register, for which they applied, effective April 1, 2005, and terminating March 31, 2008. Interested persons may obtain official services by calling Farwell Southwest headquarters in Casa Grande, Arizona at (520) 421-1027.

Authority: Pub. L. 94-582, 90 Stat. 2867, as amended (7 U.S.C. 71 et seq.).

David R. Shipman,
Acting Administrator, Grain Inspection, Packers and Stockyards Administration.

[FR Doc. 05-5713 Filed 3-22-05; 8:45 am]

BILLING CODE 3410-EN-P